DEPARTMENT OF STATE

[Public Notice: 12375]

Computer Matching Agreement Between the Social Security Administration and the Department of State Office of Retirement

AGENCY: Department of State (DOS).

ACTION: Notice of New Matching Program.

SUMMARY: The Social Security Administration (SSA) will provide the Department of State, Office of Retirement (DOS) Social Security numbers (SSN) verifications and Social Security disability benefit information concerning disability annuitants who are receiving Foreign Service Disability Annuity. DOS will use the benefit information to determine the offset amount for Foreign Service Disability Annuity payments.

DATES: Please submit comments on or before June 18, 2024. The matching program will begin on June 18, 2024, unless comments have been received from interested members of the public that require modification and republication of the notice. The matching program will continue for 18 months from the beginning date and may be extended an additional 12 months if the respective Data Integrity Boards determine that the matching program will be conducted without change; and DOS and SSA have conducted the matching program in compliance with the original agreement.

ADDRESSES: You may submit comments via mail to: Edward Capers, Jr., Director, Department of State, Office of Retirement, Room SA-1 H620, 2401 E ST NW, Washington, DC 20522, telephone (202) 261-8960, or via email at CapersE@State.Gov.

FOR FURTHER INFORMATION CONTACT: Susan Farrar, Deputy Director, Department of State, Office of Retirement, at (202) 261-8961.

SUPPLEMENTARY INFORMATION: DOS is required to reduce the Foreign Service Disability annuities of individuals receiving Social Security disability benefits. DOS must rely on the annuitant to report the correct amount of Social Security benefits. However, DOS has found that many beneficiaries fail to report accurate information. Information from SSA is the most effective means available for verifying receipt and amount of Social Security disability benefits. The most cost-effective and efficient way to obtain this information is via the computer transfer matching process.

Participating Agencies: DOS and SSA.

Authority for Conducting the Matching Program: DOS's authority to participate in this matching program derives from the Privacy Act of 1974 (5 U.S.C. 552a), as amended by the Computer Matching and Privacy Protection Act of 1988, and the regulations and guidance promulgated thereunder. Section 1106 of the Social Security Act (Act) (42 U.S.C. 1306) and the regulations promulgated thereunder provide legal authority for SSA's disclosures in this agreement (20 CFR part 401). Section 7213 of the Intelligence Reform and Terrorism Prevention Act of 2004 (IRTPA) (Pub. L. 108-458) provides SSA authority to add a death indicator to verification routines that the agency determines to be appropriate.

Purpose(s): The purpose of this matching program between DOS and SSA is to assist DOS in meeting its legal obligation to offset specific benefits payable by DOS to Foreign Service disability annuitants, child survivor annuitants, and spousal survivor annuitants. SSA will disclose to DOS benefit information regarding individuals who receive benefits from SSA under Title II of the Social Security Act, which DOS will use to determine an individual's eligibility to receive benefits from DOS and to compute the benefits it provides at the correct rate.

Categories of Individuals: The individuals about whom DOS maintains information that are involved in this matching program include retired Federal Foreign Service employees who are eligible or potentially eligible to receive a disability annuity from DOS (Foreign Service disability annuitants), and surviving children and surviving spouses of those Foreign Service disability annuitants who are themselves eligible or potentially eligible to receive an annuity from DOS. The individuals about who SSA maintains information that are involved in this matching program include those who receive benefits from SSA under Title II of the Social Security Act.

Categories of Records: The categories of records involved in the data match from DOS include information about those individuals who have applied for or are eligible or potentially eligible for Foreign Service disability annuitant benefits. Specifically, full name, Social Security number (SSN), date of birth, and a system indicator required to extract information from SSA's systems. For those individuals for whom SSA has a record, SSA will provide DOS with information about an individual's beneficiary status and any associated benefit information; for those individuals for whom SSA cannot match the SSN, SSA will return an appropriate code to DOS.

System(s) of Records: SSA's systems of records involved in this matching program are designated the Master Files of SSN Holders and SSN Applications (the Enumeration System), 60-0058, last fully published at 87 FR 263 on January 4, 2022. Master Beneficiary Record, 60-0090, last fully published on January 11, 2006 (71 FR 1826) and amended on December 10, 2007 (72 FR 69723) July 5, 2013 (78 FR 40542), July 3, 2018 (83 FR 31250-31251), and November 1, 2018 (83 FR 54969). DOS will provide data from Human Resources Records, State-31, last fully published on July 19, 2013 (78 FR 43258). The information in these systems of records may be updated during the effective period of this agreement as required by the Privacy Act. The systems of records involved in this information exchange have routine uses permitting the disclosures needed to conduct this exchange.

Edward Capers, Jr.,
Director, Office of Retirement, U.S. Department of State.

[FR Doc. 2024-07632 Filed 4-10-24; 8:45 am]

BILLING CODE 4710-15-P